SUSQUEHANNA RIVER BASIN COMMISSION

Commission Meeting

AGENCY: Susquehanna River Basin Commission.

ACTION: Notice.

SUMMARY: The Susquehanna River Basin Commission will conduct its regular business meeting on September 14, 2023, in Harrisburg, Pennsylvania. Details concerning the matters to be addressed at the business meeting are in this notice's Supplementary Information section. Also, the Commission published a document in the Federal Register on July 12, 2023, concerning its public hearing on August 10, 2023, in Harrisburg, Pennsylvania.

DATES: The meeting will be held on Thursday, September 14, 2023, at 9 a.m.

ADDRESSES: This public meeting will be in-person and digital from the Susquehanna River Basin Commission, 4423 N Front Street, Harrisburg, PA 17110.

FOR FURTHER INFORMATION CONTACT: Jason E. Oyler, General Counsel and Secretary to the Commission, telephone: 717-238-0423; fax: 717-238-2436; email: joyler@srbc.gov. See also Commission website at www.srbc.gov.

SUPPLEMENTARY INFORMATION: The business meeting will include actions or presentations on the following items: (1) adoption of the Commission's Fiscal Year 2025 Budget; (2) adoption of member jurisdictions allocation for Fiscal Year 2025; (4) approval of contracts, grants, and agreements; (3) adoption of a resolution regarding climate change; (4) adoption of a resolution regarding Artesian Water Maryland, Inc. withdrawal; (5) adoption of a compliance settlement agreement; and (6) actions on 22 regulatory program projects.

This agenda is complete at issuance, but other items may be added and some stricken without further notice. Listing an item on the agenda does not necessarily mean that the Commission will take final action at this meeting. When the Commission does take final action, notice of these actions will be published in the Federal Register after the meeting. Any actions specific to projects will also be provided directly to project sponsors in writing.

The meeting will be in-person at the Susquehanna River Basin Commission. The public is invited to attend the Commission's business meeting. You can access the Business Meeting remotely via Zoom: https://us02web.zoom.us/j/82472805136?pwd=VlpHaElpeWF2U0RhWVFQRHhTbU40UT09. Meeting ID 824 7280 5136; Passcode: SRBC4423! or via telephone 309-205-3325 or 312-626-6799; Meeting ID 824 7280 5136.

Except for the actions on the 22 regulatory program projects subject to the August 10 public hearing and comment process that closed on August 21, written comments about any other items on the agenda at the business meeting may be mailed to the Susquehanna River Basin Commission, 4423 North Front Street, Harrisburg, Pennsylvania 17110-1788, or submitted electronically through www.srbc.net/about/meetings-events/business-meeting.html. Such comments are due to the Commission on or before September 8, 2023. Comments will not be accepted at the business meeting noticed herein.

Authority: Pub. L. 91-575, 84 Stat. 1509 et seq., 18 CFR parts 806, 807, and 808.

Dated: August 11, 2023.
Jason E. Oyler,
General Counsel and Secretary to the Commission.

[FR Doc. 2023-17590 Filed 8-15-23; 8:45 am]

BILLING CODE 7040-01-P